Title 3—

The President

Proclamation 10897 of February 17, 2025

President George Washington's Birthday, 2025

By the President of the United States of America

A Proclamation

Today, our Nation commemorates the Father of our country, the patriarch of our freedom, and a timeless exemplar of valor and virtue: the first President of the United States, George Washington. On President Washington's Birthday, we honor his heroic legacy and steadfast love of country.

As our Nation's first chief executive, President Washington was a key architect of our Federal Government and constitutional order. He was a visionary unifier, a fierce advocate for an America First foreign policy, and a man of devout faith. To this day, he lives on in our souls as the original American patriot, the face of the American Revolution, and a legendary titan of American liberty.

Through his presidency, private life, and personal conduct, George Washington was a model of public service and a living reminder that no challenge is too great for the strength of the American spirit.

In the winter of 1776, with the Revolutionary War raging and the Continental Army on the verge of collapse, General Washington refused to surrender. Low on supplies and teetering on the edge of defeat, he carried on, writing “Victory or Death” before departing for battle. In the waning hours of Christmas night, Washington's Continental Army ventured through miles of ice-cold darkness with nothing but patriotism in their hearts, courage in their veins, and faith in their God—going on to defeat the enemy and forever change the course of history.

President Washington's unflinching devotion to the common good remains the mandate of every American citizen. As my Administration continues the work of reforming our country, we look to George Washington, the sacrifices he made, and the victories he won.

NOW, THEREFORE, I, DONALD J. TRUMP, President of the United States of America, by virtue of the authority vested in me by the Constitution and the laws of the United States, do hereby proclaim February 17, 2025, as a reserved holiday commemorating George Washington's Birthday.

IN WITNESS WHEREOF, I have hereunto set my hand this seventeenth day of February, in the year of our Lord two thousand twenty-five, and of the Independence of the United States of America the two hundred and forty-ninth.

[FR Doc. 2025-03132

Filed 2-24-25; 8:45 am]

Billing code 3395-F4-P